DEPARTMENT OF ENERGY

Federal Energy Regulatory Commission

[IC01-566-001 FERC Form 566]

Information Collection Submitted for Review and Request for Comments

December 11, 2001.

AGENCY: Federal Energy Regulatory Commission, DOE.

ACTION: Notice of submission for review by the Office of Management and Budget (OMB) and request for comments.

SUMMARY: The Federal Energy Regulatory Commission (Commission) has submitted the energy information collection listed in this notice to the Office of Management and Budget (OMB) for review under provisions of section 3507 of the Paperwork Reduction Act of 1995 (Pub. L. 104-13). Any interested person may file comments on the collection of information directly with OMB and should address a copy of those comments to the Commission as explained below. The Commission received comments in response to an earlier Federal Register notice of May 8, 2001 (66 FR. 23240). The Commission has responded to these comments in its submission to OMB.

DATES: Comments regarding this collection of information are best assured of having their full effect if received within 30 days of this notification.

ADDRESSES: Address comments to Office of Management and Budget, Office of Information and Regulatory Affairs, Attention: Federal Energy Regulatory Commission, Desk Officer, 725 17th Street, NW., Washington, DC 20503. A copy of the comments should also be sent to Federal Energy Regulatory Commission, Office of the Chief Information Officer, Attention: Mr. Michael Miller, 888 First Street NE., Washington, DC 20426.

FOR FURTHER INFORMATION CONTACT: Michael Miller may be reached by telephone at (202)208-1415, by fax at (202) 273-0873, and by E-mail: mike.miller@fer.fed.us.

SUPPLEMENTARY INFORMATION:

Description

The energy information collection submitted to OMB for review contains:

1. Collection of Information: FERC Form 566 “Annual Report of a Utility's Twenty Largest Purchasers”

2. Sponsor: Federal Energy Regulatory Commission.

3. Control No.: OMB No. 1902-0114. The Commission is now requesting that OMB approve a three-year extension of the current expiration date, with no changes to the existing collection. This is a mandatory information collection requirement.

4. Necessity of Collection of Information: Submission of the information is necessary to fulfill the requirements of Section 305 of the Federal Power Act (FPA), as amended by Title II, section 211 of the Public Utility Regulatory Policies Act of 1978 (PURPA). FPA section 305—Officials Dealing in Securities-Interlocking Directorates defines the annual reporting requirements for public utility officers and directors to report office and director positions they hold with, among other entities, a public utility's top twenty customers of electric energy. FPA section 305(c)(2) states “each public utility shall publish a list, pursuant to rules prescribed by the Commission * * * This statutory requirement to publish the customers” list allows the public the opportunity to compare the customers listed with the interlocking directorate information filed in FERC Form 561 (1902-0099), by public utility officers and directors, for identification of positions where the relationship may be employed, for example to the detriment of the utility, or the public interest. The required public utility filers, the necessary filing information, the requirement to publish the information and the filing deadline are all specifically mandated by the FPA. The Commission is not empowered to amend or waive these statutory requirements. Requirements the Commission has the authority to amend, such as the filing format and the number of required copies are found at 18 CFR 46.3.

5. Respondent Description: The respondent universe currently comprises on average approximately 175 public utilities.

6. Estimated Burden: 1,050 total burden hours, 175 respondents, 1 response annually, 6 hours per response (average).

7. Estimated Cost Burden to Respondents: 1,050 hours ÷ 2,080 hours per year × $117,041 per year = $ 59,083, average cost per respondent = $338.

Statutory Authority: Sections 211 of the Public Utility Regulatory Policies Act of 1978 (PURPA) (16 U.S.C. 825d as amended and 16 U.S.C. 2601) and section 305 of the Federal Power Act (16 U.S.C. 825d).

Linwood A. Watson, Jr.,
Acting Secretary.

[FR Doc. 01-31064 Filed 12-17-01; 8:45 am]

BILLING CODE 6717-01-P